DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Deep Seabed Mining Regulations for Exploration Licenses.

Form Number(s): None.

OMB Approval Number: 0648-0327.

Type of Request: Regular submission.

Burden Hours: 8,490.

Number of Respondents: 45,520.

Average Hours Per Response: 7 minutes.

Needs and Uses: This information collection consists of a mandatory annual vessel permit program for commercial tuna fisheries, recreational highly migratory species (HMS) fisheries and charter/headboat HMS fisheries, and mandatory dealer permits for purchase HMS from vessels and international trade of several HMS. The catch monitoring and collection of catch and effort statistics in these fisheries are required under the Atlantic Tunas Convention Act and the Magnuson-Stevens Fishery Conservation and Management Act. Such information is collected through the permit programs, and is essential for the United States to meet its reporting obligations to the International Commission for the Conservation of Atlantic Tunas. Both the International Commission for the Conservation of Atlantic Tunas and the Inter-American Tropical Tuna Commission require trade tracking programs which are implemented in part by the dealer permit for international trade under this collection.

Affected Public: Individuals or households; business or other for-profit organizations.

Frequency: Annually and on occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: June 23, 2005.
Gwellnar Banks,
Management Analyst, Office of the Chief Information Officer.

[FR Doc. 05-12784 Filed 6-28-05; 8:45 am]

BILLING CODE 3510-22-P